DEPARTMENT OF DEFENSE

Department of the Army

Final Environmental Impact Statement (FEIS) for Training Land Acquisition at Fort Polk, LA

AGENCY: Department of the Army, DoD.

ACTION: Notice of availability.

SUMMARY: The Department of the Army has prepared an FEIS that analyzes environmental and socioeconomic impacts connected with the proposed acquisition (hereinafter to mean including purchase and lease) and use of up to 100,000 additional acres of commercial and private lands for training in the vicinity of Fort Polk, Louisiana. This Proposed Action to acquire additional lands supports the training requirements of the Joint Readiness Training Center (JRTC) and Fort Polk's current and future resident units. The FEIS analyzes three alternatives that are deemed feasible and meet the purpose and need for this Proposed Action.

DATES: The waiting period will end 30 days after the publication of a notice of availability in the Federal Register by the U.S. Environmental Protection Agency.

ADDRESSES: To request a copy of the FEIS contact Ms. Susan Walker, Fort Polk Public Affairs Office (PAO) at 7073 Radio Road, Fort Polk, LA 71459-5342.

FOR FURTHER INFORMATION CONTACT: Ms. Susan Walker at (337) 531-9125 during normal business hours from 9AM to 5PM CST or e-mail Susan.T.Walker@conus.army.mil for specific questions regarding the FEIS.

SUPPLEMENTARY INFORMATION: Fort Polk, located in west-central Louisiana, Is one of the Army's premier power projection platforms and also the home of the JRTC. Fort Polk is currently comprised of approximately 198,130 acres of U.S. Army-owned land and lands utilized under a special use permit with the U.S. Forest Service. In order to improve and enhance the training of Fort Polk's units and the JRTC, the Army has proposed to acquire up to 100,000 acres of additional land. Additional training lands will allow Soldiers of the JRTC to train on brigade-level combat maneuver training tasks while simultaneously allowing Fort Polk's resident units to conduct maneuver and live-fire training. This additional land will enhance training for Fort Polk units and units deploying to JRTC, will reduce the need for training work arounds, and will allow Soldiers to train to more realistic standards in preparation for operational deployment.

The Fort Polk FEIS analyzes the environmental and socioeconomic impacts of several acquisition location alternatives, each of which could include the acquisition of up to 100,000 acres of land. Alternative I considers the acquisition of lands directly adjacent to Fort Polk's existing training areas to the south of Peason Ridge and directly north and east of the main post. As part of Alternative 1, units would continue to lease lands to convoy to Peason Ridge to access training areas. Alternative 2 considers the acquisition of the land considered in Alternative 1, and, in addition, considers the acquisition of parcels that connect Peason Ridge with Fort Polk's main post. Alternative 3 has been designated by the Army as the Preferred Alternative. Alternative 3 considers the acquisition of those lands considered in Alternative 2, and, in addition, considers the acquisition of lands to the east of Fort Polk in Rapides Parish. The FEIS also analyzes the No Action Alternative, which evaluates the impacts of taking no action to acquire or use additional training land around Fort Polk.

The Army has determined that significant impacts may possibly occur in regard to land use and noise for each of the three alternatives being considered. The Army projects that moderate impacts would occur to soil resources, water resources, wetlands, biological resources, cultural resources, and socio-economics as a result of implementing the Proposed Action. Substantive compliance with the National Historic Preservation Act (NHPA) will be accomplished through adherence to the Installation Cultural Resource Management Plan (ICRMP), which together with the FEIS outline cultural resource management practices that would be applied to newly acquired lands. Compliance with Section 106 of the NHPA is being accomplished as part of this EIS process.

A copy of the FEIS is available at http://www.jrtc-polk.army.mil/LandPurchase/index.html.

Dated: March 5, 2010.
Addison D. Davis, IV,
Deputy Assistant Secretary of the Army (Environment, Safety and Occupational Health).

[FR Doc. 2010-5896 Filed 3-18-10; 8:45 am]

BILLING CODE M